DEPARTMENT OF ENERGY

Federal Energy Regulatory Commission

[Project Nos. 703-001, 20-117]

PacifiCorp; Notice of Availability of Environmental Assessment

In accordance with the National Environmental Policy Act of 1969 and the Federal Energy Regulatory Commission's (Commission or FERC) regulations, 18 CFR part 380, Commission staff reviewed PacifiCorp's applications, filed with the Commission on March 16, 2023, to decommission project facilities and surrender the Paris Hydroelectric Project (P-703) conduit exemption, and to amend Article 408(b) of its license for the Bear River Hydroelectric Project (P-20) to adjust minimum instream flows in the Grace Development's bypass reach. Commission staff have prepared a single Environmental Assessment (EA) for the proposed surrender of conduit exemption and amendment of license given the inter-relatedness of the proposals. The Paris Hydroelectric Project is located on Paris Creek in Bear Lake County, Idaho and does not occupy Federal lands. The Bear River Hydroelectric Project is located on Bear River is Franklin and Caribou counties, Idaho and occupies Federal lands administered by the Bureau of Land Management.

The EA contains Commission staff's analysis of the potential environmental effects of the proposed surrender of conduit exemption and amendment of license, alternatives to the proposed action, and concludes that the proposed surrender and amendment, with appropriate environmental protective measures, would not constitute a major Federal action that would significantly affect the quality of the human environment.

The EA may be viewed on the Commission's website at http://www.ferc.gov using the “elibrary” link. Enter the docket numbers (P-703-001 for the Paris Hydroelectric Project, or P-20-117 for the Bear River Hydroelectric Project) in the docket number field to access the document. For assistance, contact FERC Online Support at FERCOnlineSupport@ferc.gov or toll-free at 1-866-208-3676, or for TTY, (202) 502-8659.

You may also register online at http://www.ferc.gov/docs-filing/esubscription.asp to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

For further information, contact Jennifer Ambler at 202-502-8586 or jennifer.ambler@ferc.gov, or Holly Frank at 202-502-6833 or holly.frank@ferc.gov.

Dated: April 22, 2024.
Debbie-Anne A. Reese,
Acting Secretary.

[FR Doc. 2024-08992 Filed 4-25-24; 8:45 am]

BILLING CODE 6717-01-P